INTERNATIONAL TRADE COMMISSION

[Inv. No. 337-TA-511]

In the Matter of Certain Pet Food Treats; Notice of Decision Not To Review an Initial Determination Granting Motion of United Pet Group, Inc. To Intervene in the Place of LLB Holdings, LLC

AGENCY: U.S. International Trade Commission.

ACTION: Notice.

SUMMARY: Notice is hereby given that the U.S. International Trade Commission has determined not to review an initial determination (ID) issued by the presiding administrative law judge (ALJ) in the above-captioned investigation granting the motion of United Pet Group (“UPG”) for leave to intervene in place of respondent LLB Holdings (“LLB”).

FOR FURTHER INFORMATION CONTACT: Andrea Casson, Esq., Office of the General Counsel, U.S. International Trade Commission, 500 E Street, SW., Washington, DC 20436, telephone (202) 205-3105. Copies of all nonconfidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 8, 2004, based on a complaint filed by Thomas J. Baumgartner and Hillbilly Smokehouse, Inc., both of Rogers, Arkansas. 69 FR 32044. The complaint alleges violations of section 337 in the importation into the United States, sale for importation, or sale within the United States after importation of certain pet food treats that infringe U.S. Design Patent No. 383,886. The notice of investigation lists six companies as respondents, including LLB, which was formerly known as Dingo Brand LLC.

On June 23, 2004, UPG filed a motion to intervene in the investigation in place of named respondent LLB. UPG stated that, in January 2004, it purchased the Dingo product line and all assets associated with the accused LLB/Dingo products, and that therefore UPG is the real party in interest. No party responded to UPG's motion.

On August 12, 2004, the ALJ issued an ID (Order No. 4), granting UPG's motion. He terminated the investigation as to LLB, and added UPG as a respondent in this investigation. No petitions for review of the ID were filed.

This action is taken under the authority of section 337 of the Tariff Act of 1930, 19 U.S.C. 1337, and sections 210.19 and 210.42(h) of the Commission Rules of Practice and Procedure, 19 CFR 210.19 and 210.42(h).

Issued: September 7, 2004.
By order of the Commission.
Marilyn R. Abbott,
Secretary to the Commission.

[FR Doc. 04-20556 Filed 9-10-04; 8:45 am]

BILLING CODE 7020-02-P